DEPARTMENT OF TRANSPORTATION

Maritime Administration

[USCG-2002-14134]

Port Pelican LLC Deepwater Port License Relinquish

AGENCY: Maritime Administration, DOT.

ACTION: Relinquishment of Deepwater Port License Announcement; Notice.

SUMMARY: The Maritime Administration (MARAD) announces the cancellation of all actions related to the license to own, construct and operate a deepwater port issued to Port Pelican LLC on January 20, 2004. Pursuant to Section 1503(h) of the Deepwater Port Act of 1974, as amended, a deepwater port license may remain in effect until such time as it is either suspended or revoked by the Secretary of Transportation or surrendered by the licensee. The action is taken in response to the applicant's decision to relinquish its Deepwater Port License.

DATES: The date of relinquishment and cancellation of all actions related to this license was effective October 28, 2009.

ADDRESSES: The Docket Management Facility maintains the public docket for this project. The docket may be viewed electronically at http://www.regulations.gov under docket number USCG-2002-14134, or in person at the U.S. Department of Transportation, Docket Operations, M-30, West Building Ground Floor, Room W12-140, 1200 New Jersey Avenue, SE., Washington, DC 20590.

FOR FURTHER INFORMATION CONTACT: If you have questions about the Port Pelican LLC Deepwater Port project, contact Ms. Yvette Fields, Director, Office of Deepwater Ports and Offshore Activities at (202) 366-0926 or Yvette.Fields@dot.gov.

SUPPLEMENTARY INFORMATION: On October 28, 2009, the Maritime Administration received notification from the Deepwater Port Licensee, Port Pelican LLC, of the relinquishment of its License to own, construct and operate a liquefied natural gas deepwater port, entitled “Port Pelican” approximately 36 miles south southwest of Fresh Water City, Louisiana, located on the Outer Continental Shelf (OCS) Block Vermillion 140. Consequently, the Maritime Administration is terminating all activities relating to the licensure, construction, and operation of the proposed Port Pelican deepwater port. Further information pertaining to the Port Pelican Deepwater Port project may be found in the public docket at http://www.regulations.gov under docket number USCG-2002-14134.

Authority: 49 CFR 1.66.

Dated: December 3, 2009.
By Order of the Maritime Administrator.
Christine Gurland,
Secretary, Maritime Administration.

[FR Doc. E9-29336 Filed 12-8-09; 8:45 am]

BILLING CODE 4910-81-PHERE